FEDERAL ELECTION COMMISSION

Sunshine Act Meeting

AGENCY: Federal Election Commission.

Date & Time: Friday, May 4, 2001 at 9 a.m.; Saturday, May 5, 2001 at 9 a.m.

Place: Wyndham Baltimore Inner Harbor Hotel, 101 West Fayette Street, Baltimore, MD 21201.

NAME: Federal Election Commission Election Administration Advisory Panel.

Status: The Advisory Panel meeting is open to the public, dependent on available space.

In accordance with the provisions of the Federal Advisory Panel Committee Act (5 U.S.C. App. 1) and Office of Management and Budget Circular A-63, as revised, the Federal Election Commission announces the 2001 Advisory Panel meeting.

Items to be Discussed: Contested elections and recounts in the 2000 election; Federal issues in the 2000 election (including accessibility for the disabled, civil rights, absentee voting and the National Voter Registration Act); Reports from national election reform task forces and commissions; Update on the Voting Systems Standards project; FEC budget and the future of the Office of Election Administration.

Purpose of Meeting: The Panel will present its views on problems in the administration of Federal elections, and formulate recommendations to the Federal Election Commission Office of Election Administration for its future program development.

Any member of the public may file a written statement with the Panel before, during, or after the meeting. To the extent that time permits, Panel Chair may allow public presentation or oral statements at the meeting.

Person to Contact for Information: Ms. Penelope Bonsall, Director, Office of Election Administration, Telephone: (202) 694-1095.

Mary W. Dove,
Secretary of the Commission.

[FR Doc. 01-8837 Filed 4-5-01; 3:16 pm]

BILLING CODE 6715-01-M